Title 3—

The President

Proclamation 9477 of August 25, 2016

Women's Equality Day, 2016

By the President of the United States of America

A Proclamation

Nearly one century ago, with boundless courage and relentless commitment, dedicated women who had marched, advocated, and organized for the right to cast a vote finally saw their efforts rewarded on August 26, 1920, when the 19th Amendment was certified and the right to vote was secured. In the decades that followed, that precious right has bolstered generations of women and empowered them to stand up, speak out, and steer the country they love in a more equal direction. Today, as we celebrate the anniversary of this hard-won achievement and pay tribute to the trailblazers and suffragists who moved us closer to a more just and prosperous future, we resolve to protect this constitutional right and pledge to continue fighting for equality for women and girls.

At every level of society, women are leaders at the forefront of progress. Serving as judges and Members of Congress, setting world records in sports, founding groundbreaking companies, and fighting on the front lines of combat, women continue to tear down barriers and shatter glass ceilings—just as they have done since the founding of our Nation. Yet such progress is not inevitable, and we must keep moving forward on our journey toward equality. In one of my first acts as President, I established the White House Council on Women and Girls to provide a coordinated response to challenges confronted by women and girls, ensuring their concerns and insights are taken into account in our policies and programs. And this year, my Administration hosted the first-ever United State of Women Summit to continue our efforts to underscore the passion, success, and ongoing commitment of advocates dedicated to advancing gender equality and realizing a brighter future for women of all ages.

No woman should earn less than a man for doing the same job—equal pay for equal work should be a fundamental principle of our economy and our democracy. That is why the first bill I signed into law as President was the Lilly Ledbetter Fair Pay Act, and why I continue to call on the Congress to pass the Paycheck Fairness Act. Women make up roughly half of our workforce, and we need to invest more in affordable, high-quality childcare. We must strengthen paid sick, maternity, and family leave—too many families are forced to make difficult choices between caring for a newborn and receiving a paycheck, or staying home to help a sick child or parent and keeping their job. And we must continue striving for fairness and opportunity when it comes to improving workplace policies, because we know that when women succeed, our economy and our country succeed.

Ensuring all young women can live full and healthy lives is vital to their pursuit of personal and professional goals. Because of the Affordable Care Act, individuals can no longer be charged higher premiums simply for being a woman. But there is still more we can do to reduce discrimination when it comes to women's health—such as protecting a woman's right to choose and safeguarding access to sexual and reproductive health services, including abortion. Every person should be able to live and reach for their dreams free from fear of violence: In America, nearly one in four women has suffered physical domestic violence, a cruelty which deprives its victims of their autonomy, liberty, and security, and inhibits them from reaching their full potential. Approximately one in five women is sexually assaulted while in college. Through the It's On Us campaign and the White House Task Force to Protect Students From Sexual Assault, we have called on individuals, communities, and institutions of higher education to recognize what they can do to stop sexual assault and change our culture for the better. We have striven to support survivors and focused on making sure our schools are safe places where all students can learn, grow, and thrive. Transgender women often face escalated levels of discrimination and violence, and we have taken a number of steps to secure their civil rights, including providing guidance to educators that can help rid school environments of discrimination. The Department of Justice has also urged law enforcement agencies to address any form of gender bias that exists in responding to domestic violence and sexual assault and ensure that such bias does not undermine efforts to keep victims safe.

Underrepresented in management positions, underfunded as entrepreneurs, under-encouraged in STEM fields, and confronted with higher levels of unemployment, women and girls of color still face very real challenges, significant opportunity gaps, and structural barriers. That is why we have hosted forums to discuss ways to increase programming and promote opportunities for women and girls of color so they can achieve success at school, at work, and in their communities. To continue building these ladders of opportunity for women—not just in communities across our country, but also around the world—I have made advancing gender equality a foreign policy priority. My Administration has sought to end gender-based violence across the globe, promote the role of women in ending conflict and building lasting peace and security, and empower the next generation by investing in adolescent girls and breaking down barriers to get 62 million girls into schools through the Let Girls Learn initiative.

In the many decades since suffragists organized and mobilized, countless advocates and leaders have picked up the mantle and moved our Nation and our world forward. Today, young women in America grow up knowing an historic truth—that not only can they cast a vote, but they can also run for office and help shape the very democracy that once left them out. For these women, and for generations of women to come, we must keep building a more equal America—whether through the stories we tell about our Nation's history or the faces we display on our country's currency. On Women's Equality Day, as we recognize the accomplishments that so many women fought so hard to achieve, we rededicate ourselves to tackling the challenges that remain and expanding opportunity for women and girls everywhere.

NOW, THEREFORE, I, BARACK OBAMA, President of the United States of America, by virtue of the authority vested in me by the Constitution and the laws of the United States, do hereby proclaim August 26, 2016, as Women's Equality Day. I call upon the people of the United States to celebrate the achievements of women and promote gender equality.

IN WITNESS WHEREOF, I have hereunto set my hand this twenty-fifth day of August, in the year of our Lord two thousand sixteen, and of the Independence of the United States of America the two hundred and forty-first.

[FR Doc. 2016-20949

Filed 8-29-16; 8:45 am]

Billing code 3295-F6-P